FEDERAL MARITIME COMMISSION

Ocean Transportation Intermediary License; Reissuances

Notice is hereby given that the following Ocean Transportation Intermediary licenses have been reissued by the Federal Maritime Commission pursuant to section 40901 of the Shipping Act of 1984 (46 U.S.C. 40101).

License No. | Name/address | Date reissued
004661F | Jacob Fleishman Transportation, Inc., 1177 NW 81st Street, Miami, FL 33150 | April 25, 2012.
016671F | Lee Ann Tyus dba Lee, Ann Tyus Maritime Services, 9648 Bailey Road, Cornelius, NC 28031 | May 2, 2012.
020376NF | Unity Container Line, Inc., 6105 NW 18th Street, Bldg. 716-C, Suite 402, Miami, FL 33126 | April 28, 2012.
022844F | World Freight Solutions Inc., 691 Dekle Street, Mobile, AL 36602 | May 2, 2012.

Vern W. Hill,
Director, Bureau of Certification and Licensing.

[FR Doc. 2012-15053 Filed 6-19-12; 8:45 am]

BILLING CODE 6730-01-P